NATIONAL SCIENCE FOUNDATION

Advisory Committee for International Science and Engineering; Notice of Meeting

In accordance with the Federal Advisory Committee Act (Pub. L. 92-463, as amended), the National Science Foundation announces the following meeting:

Name: Advisory Committee for International Science and Engineering (25104).

Date and Time: June 11, 2012, 10:00 a.m.-12:00 p.m.

Place: Videoconference. The public is welcome to attend at National Science Foundation, 4201 Wilson Blvd., Room II-1155, Arlington, VA. Videoconference participation is only available for Committee Members.

Type of Meeting: Open.

Contact Person for More Information: Robert Webber, Office of International Science and Engineering, National Science Foundation, 4201 Wilson Blvd., Arlington, VA, Telephone: 703-292-7569. If you wish to attend the meeting and need access to the NSF building, please contact the individual listed above so your name may be added to the building access list.

Purpose of Meeting: To provide advice and recommendations concerning support for research, education and related activities involving the U.S. science and engineering community working in a global context as well as strategic efforts to promote a more effective NSF role in international science and engineering.

Agenda: Discuss strategies to identify where STEM research and education will be in 2020.

Dated: May 16, 2012.
Susanne Bolton,
Committee Management Officer.

[FR Doc. 2012-12189 Filed 5-18-12; 8:45 am]

BILLING CODE 7555-01-P